NATIONAL SCIENCE FOUNDATION

Notice of Intent To Seek Approval To Establish an Information Collection

AGENCY: National Science Foundation.

ACTION: Notice and request for comments.

SUMMARY: Under the Paperwork Reduction Act of 1995 and as part of its continuing effort to reduce paperwork and respondent burden, the National Science Foundation (NSF) is inviting the general public or other Federal agencies to comment on this proposed information collection.

Comments: Comments are invited on: (a) Whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

DATES: Written comments on this notice must be received by May 28, 2019, to be assured consideration. Comments received after that date will be considered to the extent practicable. Send comments to address below.

FOR FURTHER INFORMATION CONTACT: Ms. Suzanne H. Plimpton, Reports Clearance Officer, National Science Foundation, 2415 Eisenhower Avenue, Alexandria, VA 22314; telephone (703) 292-7556; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION:

Title of Collection: Mathematical Sciences Postdoctoral Research Fellowship Application Data.

OMB Number: 3145-NEW.

Expiration Date of Approval: Not applicable.

Type of Request: Intent to seek approval to establish an information collection.

Abstract: The Division of Mathematical Sciences within the Directorate of Mathematical and Physical Sciences of the National Science Foundation will use the Mathematical Sciences Postdoctoral Research Fellowship Application Forms mentioned in the solicitation. Instructions on how to complete the application forms are provided at the program web page. All scientists submitting proposals to the solicitation will be asked to complete an electronic version of the Application Forms. The data collected on the forms does not duplicate that collected elsewhere in the same manner in the proposal. The information consists of PI's current institution and position, (expected) doctoral degree date and institution, proposed fellowship institution and mentoring scientist, reference letter writers, and Mathematics Subject Classification codes.

Use of the Information: The data collected will be used to greatly reduce NSF staff workload in the merit review process.

Burden on the Public: The Directorate estimates that an average of 30 minutes is expended for each proposal submitted. An estimated 250 proposals will be submitted and 125 public burden hours annually.

Expected Respondents: Individuals.

Estimated Number of Responses: 250.

Estimated Number of Respondents: 250.

Estimated Total Annual Burden on Respondents: 125 hours.

Frequency of Responses: Annually.

Dated: March 25, 2019.
Suzanne H. Plimpton,
Reports Clearance Officer, National Science Foundation.

[FR Doc. 2019-06137 Filed 3-28-19; 8:45 am]

BILLING CODE 7555-01-P